DEPARTMENT OF ENERGY

Federal Energy Regulatory Commission

[Docket No. RP02-499-003]

Equitrans, L.P.; Notice of Compliance Filing

June 26, 2003.

Take notice that on June 20, 2003, Equitrans, L.P. (Equitrans) tendered for filing as part of its FERC Gas Tariff, Original Volume No. 1, the following tariff sheets to become effective on October 1, 2002:

First Revised Sheet No. 226

First Revised Sheet No. 227

First Revised Sheet No. 228

Second Revised Sheet No. 229

Second Revised Sheet No. 275

Substitute Second Revised Sheet No. 276

Substitute Original Sheet No. 276A

Substitute Original Sheet No. 276B

Substitute Original Sheet No. 276C

Substitute Original Sheet No. 276D

Second Substitute Fourth Revised Sheet No. 308

Equitrans states that the foregoing tariff sheets are being filed to comply with the Commission's Letter Order, issued herein on April 23, 2003.

Equitrans further states that its filing is being served on all parties to these proceedings, on all of Equitrans' existing customers and upon the Pennsylvania Office of Consumer Advocate, Pennsylvania Public Utility Commission and the West Virginia Public Service Commission.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 7, 2003.

Magalie R. Salas,
Secretary.

[FR Doc. 03-16751 Filed 7-2-03; 8:45 am]

BILLING CODE 6717-01-P